DEPARTMENT OF COMMERCE

Economic Development Administration

Notice of Petitions by Producing Firms for Determination of Eligibility To Apply for Trade Adjustment Assistance

AGENCY: Economic Development Administration (EDA).

ACTION: To give firms an opportunity to comment.

Petitions have been accepted for filing on the dates indicated from the firms listed below.

List of Petition Action by Trade Adjustment Assistance for Period May 26, 2000-June 21, 2000
Firm name | Address | Date petition accepted | Product
Mearthan, Inc | 16 Western Industrial Dr., Cranston, RI 02921 | 5-31-2000 | Custom fabricated polyurethane components for business equipment, industrial applications, recreational products, and automotive industries.
Environmental Elements Corp | 3700 Koppers Street, Baltimore, MD 21227 | 5-31-2000 | Dust collection and air purification equipment.
American Conveyor, Inc | Route 1 Box 46, Altavista, VA 24517 | 5-31-2000 | Standard and custom designed belt continuous conveyors used in the material handling and storage industries.
Chain Technology, Inc | 88 Niantic Avenue, Providence, RI 02907 | 5-31-2000 | Gold chains.
M.W. Bevins Company | 9903 East 54th Street, Tulsa, OK 74146 | 5-31-2000 | Phasing testers for distribution circuits.
Surface Mount Depot, Inc | 4001 Will Rogers Pky., Oklahoma City, OK 73108 | 5-31-2000 | Printed circuit boards.
Rolite Manufacturing Co., Inc | 10 Wendling Court, Lancaster, NY 14086 | 5-31-2000 | Metal stamped lamp parts including canopies, bases, arm plates, cups, cross bars, and glass holders arm plates, cups, cross.
Amtab Manufacturing Co., Inc | 1747 West Grand Ave., Chicago, IL 60622 | 6-1-2000 | Wooden tables with folding metal legs.
Adobe Air, Inc | 500 South 15th Street, Phoenix, AZ 85034 | 6-1-2000 | Portable space heaters.
Thompson Dental Manufacturing Company, Inc | 1201 South 6th West, Missouri, MT 59801 | 6-7-2000 | Dental hand instruments.
Central Chair Company | 277 North Park Street, Asheboro, NC 27204 | 6-7-2000 | Bar stools of wood.
American Folk Art Furnituure Co | Rt. 3, Box 1647, Afton, OK 74331 | 6-21-2000 | Wooden carved furniture.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: June 19, 2000.
Anthony J. Meyer,
Coordinator, Trade Adjustment and Technical Assistance.

[FR Doc. 00-16173 Filed 6-26-00; 8:45 am]

BILLING CODE 3510-24-P